DEPARTMENT OF TRANSPORTATION

Coast Guard

33 CFR Part 110

[CGD11-01-003]

RIN 2115-AA98

Anchorage Regulation; San Francisco Bay, California

AGENCY: Coast Guard, DOT.

ACTION: Notice of proposed rulemaking.

SUMMARY: The Coast Guard proposes to revise the anchorage boundaries for Anchorages 8, 9, and 24, and to specify procedures for vessels intending to be in a “dead ship” status in the San Francisco Bay Anchorage Grounds. The regulations concerning use of the anchorage by vessels, and the activities permitted in the anchorage areas are not affected by the change in shape and size of these anchorages.

DATES: Comments and related material must reach the Coast Guard on or before March 30, 2001.

ADDRESSES: You may mail comments and related material to Commanding Officer, Coast Guard Marine Safety Office San Francisco Bay, Bldg. 14, Coast Guard Island, Alameda, CA 94501, ATTN: LT Andrew Cheney. The Marine Safety Office maintains the public docket for this rulemaking. Comments and material received from the public, as well as documents indicated in this preamble as being available in the docket, will become part of this docket and will be available for inspection and copying at the Marine Safety Office between 7:30 a.m. and 4:00 p.m., Monday through Friday, except Federal holidays.

FOR FURTHER INFORMATION CONTACT: Lieutenant Patricia Springer, Vessel Traffic Management Section, Coast Guard Eleventh District/Pacific Area, (510) 437-2951, email: pspringer@d11.uscg.mil.

SUPPLEMENTARY INFORMATION:

Request for Comments

We encourage you to participate in this rulemaking by submitting comments and related material. If you do so, please include your name and address, identify the docket number for this rulemaking (CGD11-01-003), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not plan to hold a public meeting, however you may submit a request for a meeting by writing the Marine Safety Office at the address under ADDRESSES explaining why one would be beneficial. If we determine that one would aid this rulemaking, we will hold one at a time and place announced by a later notice in the Federal Register.

Background and Purpose

Due to changing uses of the waterways in the San Francisco Bay region—including the closure of Naval Air Station Alameda, the trend of larger ships arriving in the Bay, and the anticipated growth of faster Marine Transportation Systems—mariners have requested changes to several anchorage grounds. Recent situations have demanded increased use and space for Anchorages 8 and 9. Vessels have had to take anchor while awaiting the departure of another at berth. Periodic labor strikes and disputes have caused delays in the turnaround time of cargo, which in turn have filled the anchorages to capacity. In general, these proposed changes will allow more room for the anchorages while enhancing safer and more efficient use of the waterways through San Francisco Bay and the Carquinez Strait.

Currently, safety measures for anchoring in the San Francisco Bay in a dead-ship status are addressed by individual COTP orders. The term “dead ship” refers to when a vessel's propulsion or control is unavailable for normal operations. This rulemaking will enhance the safety of navigation in the area by designating a dead-ship anchorage, away from usual areas of navigation on the bay, and by uniformly requiring the assistance of a tug boat when anchoring in a dead ship status. Also, with this proposed change to the rule, the owner/operator will be able to make its own arrangements for a tug without having to gain the approval of the COTP before proceeding to the dead-ship anchorage.

Discussion of Proposed Rule

Anchorage 8 and Anchorage 9 (South San Francisco Bay)

In the past, San Francisco Bay had a strong military presence and much waterway traffic resulted from the military facilities homeported in the area. Both Anchorage 8 and 9 were designed to accommodate large naval vessels enroute to Naval Air Station Alameda. The configuration of these anchorages is no longer optimal due to the closure of the Naval Air Station. Commercial vessels awaiting a berth, favorable tides, orders, or other operational uses now use Anchorages 8 and 9. The size and draft of these commercial vessels has steadily risen in recent years and this trend is expected to continue.

This proposed change includes modifications to Anchorages 8 and 9 which enlarge the anchorage area into the waters previously used for large military vessel transit. Enlarging Anchorage 8 and 9 will allow today's larger vessels to have better use of the available water. Changes to Anchorage 8 would allow one to two more vessels to anchor, and change to Anchorage 9 would allow more deep draft anchorage space. Generally, this proposed regulation is intended to eliminate congestion in the anchorages and promote safety for these new vessels.

Anchorage 24 (Carquinez Strait)

The Coast Guard conducted a Waterways Analysis and Management study of the San Pablo Bay and Carquinez Strait in late 1998. One of the recommendations of the study which was based primarily on the comments of mariners using the waterway, was to make better use of the navigable waters of the Carquinez Strait just south-southeast of Southampton Bay. The Coast Guard decided to establish a buoy marking the edge of the useable channel just west-southwest of Commodore Jones Point, effectively shrinking the area which is currently Anchorage 24. Study of records from the Vessel Traffic Service in San Francisco (which monitors this waterway) and discussion with waterway users indicated that Anchorage 24 is rarely used, and almost never used by vessels that would require over 10 meters of depth in the anchorage. Furthermore, there are adequate anchorages for vessels of this size in the immediate vicinity. This proposed rulemaking is intended to provide more room for large vessels maneuvering through Carquinez Strait.

Dead-Ship Procedure

The Coast Guard has been issuing individual Captain of the Port (COTP) Orders for each vessel entering “dead-ship” status (propulsion or control unavailable for normal operations) in the San Francisco Bay. This rulemaking proposes to designate Anchorage 9, which has sufficient room for such practices, so that within this area, owner/operators following these new procedures will not need to obtain the permission of the COTP before proceeding to Anchorage 9. Additionally, instead of issuing individual COTP orders to require a tug assist during heavy weather, with this rulemaking, vessels will be required to take such safety measures when disabling their main propulsion at all times, not just during heavy weather.

Regulatory Evaluation

This proposed regulation is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040; February 26, 1979).

We expect the economic impact of this proposal to be so minimal that a full Regulatory Evaluation under paragraph 10(e) of the regulatory policies and procedures of DOT is unnecessary.

The proposed changes in the size and shape of anchorage areas are slight and the purpose is to conform to the changed use of the harbor and to make best use of available water. As for implementing the cold-iron regulation, this rulemaking simply makes official in the regulation what has already been in practice.

Small Entities

Under the Regulatory Flexibility Act (5 U.S.C. § 601 et seq.), we considered whether this proposed regulation would have significant impact on a substantial number of small entities. The term “small entities” comprises small businesses, not-for-profit organizations that are not dominant in their fields, and governmental jurisdictions with populations less than 50,000.

The Coast Guard certifies under 5 U.S.C. 605(b) that this proposed rule will not have a significant economic impact on a substantial number of small entities.

If you think that your business, organization, or governmental jurisdiction qualifies as a small entity and that this rule would have a significant economic impact on it, please submit a comment (see ADDRESSES) explaining why you think it qualifies and how and to what degree this rule would economically affect it.

Assistance for Small Entities

Under § 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant Andrew Cheney at the address listed in ADDRESSES above.

Collection of Information

This proposed rule would call for no new collection of information requirements under the Paperwork Reduction Act of 1995 (44 U.S.C. 3501 et seq.).

Federalism

We have analyzed this proposed rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We will consider the environmental impact of this proposed regulation. However, under figure 2-1, paragraph 34(f) of Commandant Instruction M16475.1C, this proposed rule is categorically excluded from conducting an Environmental Assessment or an Environmental Impact Statement. In the above referenced Coast Guard policy instruction, the Coast Guard has determined that no further environmental documentation is required when changing the size of Special Anchorage Areas or anchorage grounds, or when disestablishing or reducing the size of the Area or grounds, as proposed to take place in Anchorage No. 24. Because the Coast Guard is proposing to increase the size of Anchorages No. 8 and 9, the Coast Guard will complete a Categorical Exclusion Document (CED) and an Environmental Analysis Checklist.

List of Subjects in 33 CFR Part 110

Anchorage grounds.

For the reasons discussed in the preamble, the Coast Guard proposes to amend 33 CFR part 110 as follows:

PART 110—[AMENDED]

1. The authority citation for Part 110 continues to read as follows:

Authority: 33 U.S.C. 471, 1221 through 1236, 2030, 2035, 2071; 49 CFR 1.46; and 33 CFR 1.05-1(g).

2. § 110.224 is amended by:

a. In paragraph (a), add a new paragraph (a)(18);

b. In paragraph (d), revise Table 110.224(D)(1) and add a new paragraph m to Notes at the end of the table and;

c. In paragraph (d), revise paragraphs (e)(5), (e)(6), and (e)(17) to read as follows:

§ 110.224 San Franciso Bay, San Pablo Bay, Carquinez Strait, Suisun Bay, Sacramento River, San Joaquin River, and connecting waters, CA.

(a) * * *

(18) No vessel may anchor in a “dead ship” status (propulsion or control unavailable for normal operations) at any anchorage other than in Anchorage 9 as specified in Table 110.224(D)(1) without prior approval of the Captain of the Port.

* * * * *

(d) * * *

Table 110.224(D)(1)
Anchorage No. | General location | Purpose | Specific regulations
4 | San Francisco Bay | General | Notes a, b.
5 | ......do | ......do | Do.
6 | ......do | ......do | Note a.
7 | ......do | ......do | Notes a, b, c, d, e.
8 | ......do | ......do | Notes a, b, c.
9 | ......do | ......do | Notes a, b, m.
10 | ......do | Naval | Note a.
12 | ......do | Explosives | Notes a, f.
13 | ......do | ......do | Notes a, e, g.
14 | ......do | ......do | Notes a, f, h.
18 | San Pablo Bay | General |
19 | ......do | ......do | Note b.
20 | ......do | ......do |
21 | ......do | Naval |
22 | Carquinez Strait | General |
23 | Benicia | General | Notes c, d, e, l.
24 | Carquinez Strait | General | Note j.
26 | Suisan Bay | ......do | Note k.
27 | ......do | ......do |
28 | San Joaquin River | ......do |
30 | ......do | Explosives |

Notes: a. When sustained winds are in excess of 25 knots each vessel greater than 300 gross tons using this anchorage shall maintain a continuous radio watch on VHF channel 13 (156.65 MHz) and VHF channel 14 (156.70 MHz). This radio watch must be maintained by a person who fluently speaks the English language.

b. Each vessel using this anchorage may not project into adjacent channels or fairways.

c. This anchorage is primarily for use by vessels requiring a temporary anchorage waiting to proceed to pier facilities or other anchorage grounds. This anchorage may not be used by vessels for the purpose of loading any dangerous cargoes or combustible liquids unless authorized by the Captain of the Port.

d. Each vessel using this anchorage may not remain for more than 12 hours unless authorized by the Captain of the Port.

e. Each vessel using this anchorage shall be prepared to move within 1 hour upon notification by the Captain of the Port.

f. The maximum total quantity of explosives that may be on board a vessel using this anchorage shall be limited to 3,000 tons unless otherwise authorized with the written permission of the Captain of the Port.

g. The maximum total quantity of explosives that may be on board a vessel using this anchorage shall be limited to 50 tons except that, with the written permission of the Captain of the Port, each vessel in transit, loaded with explosives in excess of 50 tons, may anchor temporarily in this anchorage provided that the hatches to the holds containing explosives are not opened.

h. Each vessel using this anchorage will be assigned a berth by the Captain of the Port on the basis of the maximum quantity of explosives that will be on board the vessel.

i. [Reserved]

j. Each vessel using this anchorage shall promptly notify the Captain of the Port, upon anchoring and upon departure.

k. See § 162.270 of this title establishing restricted areas in the vicinity of the Maritime Administration Reserve Fleet.

l. Vessels using this anchorage must exceed 15 feet draft, have engines on standby, and have a pilot on board.

m. Any vessel anchoring in a “dead-ship” status shall have one assist tug of adequate bollard pull on standby and immediately available (maximum of 15 minute response time) to provide emergency maneuvering. When the sustained winds are 20 knots or greater, or when the wind gusts are 25 knots or greater, the tug must be alongside.

(e) * * *

(5) Anchorage No. 8. In San Francisco Bay bounded by the west shore of Alameda Island and the following lines: Beginning at 37°47′52″ N, 122°19′58″ W; thence west-northwesterly to 37°48′02.5″ N 122°21′01.5″ W; thence west-southwesterly to 37°47′51.5″ N, 122°21′40″ W; thence south-southwesterly to 37°47′35.5″ N, 122°21′50″ W; thence south-southeasterly to 37°46′40″ N, 122°21′23″ W; thence easterly to 37°46′36.5″ N, 122°19′52″ W; thence northerly to shore at 37°46′53″ N, 122°19′53.5″ W (NAD 83).

(6) Anchorage No. 9. In San Francisco Bay bounded on the east by the eastern shore of San Francisco Bay and on the north by the southern shore of Alameda Island and a line beginning at 37°46′21.5″ N, 122°19′07″ W; thence westerly to 37°46′30″ N, 122°21′56″ W; thence south-southeasterly to 37°41′45″ N, 122°20′22″ W (San Bruno Channel Light 1); thence south-southeasterly to 37°38′38.5″ N, 122°18′48.5″ W (San Bruno Channel Light 5); thence southeasterly to 37°36′05″ N, 122°14′18″ W; thence northeasterly to shore at 37°37′38.5″ N, 122°09′06.5″ W (NAD 83).

* * * * *

(17) Anchorage No. 24. Bounded by the north shore of Carquinez Strait and the following points: Beginning on the shore at Dillon Point at 38°03′44″ N, 122°11′34″ W; thence southeasterly to 38°03′21″ N, 122°10′43″ W; thence southeasterly to 38°02′36″ N, 122°10′03″ W (Carquinez Strait Light 23); thence to the shore at the Benicia City Wharf at 38°02′40″ N, 122°09′55″ W (NAD 83).

* * * * *

Dated: February 1, 2001.
L.G. Brudnicki,
Captain, U.S. Coast Guard, Commander, Eleventh Coast Guard District, Acting.

[FR Doc. 01-4885 Filed 2-27-01; 8:45 am]

BILLING CODE 4910-15-U